DEPARTMENT OF ENERGY

Federal Energy Regulatory Commission

Combined Notice of Filings #1

Take notice that the Commission received the following electric rate filings:

Docket Numbers: ER10-1819-007; ER10-1820-009; ER10-1818-006; ER10-1817-007.

Applicants: Northern States Power Company, a Minnesota, Northern States Power Company, a Wisconsin corporation, Public Service Company of Colorado, Southwestern Public Service Company.

Description: Notice of Change in Status of the Xcel Energy Operating Companies.

Filed Date: 8/28/14.

Accession Number: 20140828-5182.

Comments Due: 5 p.m. ET 9/18/14.

Docket Numbers: ER14-2721-000.

Applicants: Peetz Logan Interconnect, LLC.

Description: Compliance filing per 35: Peetz Logan Interconnect, LLC Order No. 792 and 792-A Compliance Filing to be effective 8/4/2014.

Filed Date: 8/27/14.

Accession Number: 20140827-5144.

Comments Due: 5 p.m. ET 9/17/14.

Docket Numbers: ER14-2722-000.

Applicants: Sagebrush, a California partnership.

Description: Compliance filing per 35: Sagebrush, a California partnership Order No. 792 and 792-A Compliance Filing to be effective 8/4/2014.

Filed Date: 8/27/14.

Accession Number: 20140827-5145.

Comments Due: 5 p.m. ET 9/17/14.

Docket Numbers: ER14-2723-000.

Applicants: Sky River LLC.

Description: Compliance filing per 35: Sky River LLC Order No. 792 and 792-A Compliance Filing to be effective 8/4/2014.

Filed Date: 8/27/14.

Accession Number: 20140827-5146.

Comments Due: 5 p.m. ET 9/17/14.

Docket Numbers: ER14-2724-000.

Applicants: Northern States Power Company, a Minnesota corporation.

Description: § 205(d) rate filing per 35.13(a)(2)(iii): 2014-8-28_CAPX-BSSB-CMA-594-0.0.0-Filing to be effective 8/1/2014.

Filed Date: 8/28/14.

Accession Number: 20140828-5050.

Comments Due: 5 p.m. ET 9/18/14.

Docket Numbers: ER14-2725-000.

Applicants: Northern States Power Company, a Minnesota corporation.

Description: § 205(d) rate filing per 35.13(a)(2)(iii): 2014-8-28_CAPX-BSSB-OMA-595-0.0.0-Filing to be effective 8/1/2014.

Filed Date: 8/28/14.

Accession Number: 20140828-5052.

Comments Due: 5 p.m. ET 9/18/14.

Docket Numbers: ER14-2726-000.

Applicants: Northern States Power Company, a Minnesota corporation.

Description: § 205(d) rate filing per 35.13(a)(2)(iii): 2014-8-28_CAPX-BSSB-TCEA-596-0.0.0-Filing to be effective 8/1/2014.

Filed Date: 8/28/14.

Accession Number: 20140828-5054.

Comments Due: 5 p.m. ET 9/18/14.

Docket Numbers: ER14-2727-000.

Applicants: Midcontinent Independent System Operator, Inc.

Description: § 205(d) rate filing per 35.13(a)(2)(iii): 2014-08-28_SA 2527 ITC-Consumers 2nd Amended GIA (J161) to be effective 8/29/2014.

Filed Date: 8/28/14.

Accession Number: 20140828-5091.

Comments Due: 5 p.m. ET 9/18/14.

Docket Numbers: ER14-2728-000.

Applicants: Wisconsin Public Service Corporation.

Description: § 205(d) rate filing per 35.13(a)(2)(iii): Wisconsin Public Service Corporation Ancillary Services Tariff to be effective 8/28/2014.

Filed Date: 8/28/14.

Accession Number: 20140828-5098.

Comments Due: 5 p.m. ET 9/18/14.

Docket Numbers: ER14-2729-000.

Applicants: Wisconsin Public Service Corporation.

Description: Tariff Withdrawal per 35.15: WPSC and UPPCo Notice of Cancellation of Joint Open Access Transmission Tariff to be effective 8/28/2014.

Filed Date: 8/28/14.

Accession Number: 20140828-5099.

Comments Due: 5 p.m. ET 9/18/14.

Docket Numbers: ER14-2730-000.

Applicants: Wisconsin Public Service Corporation.

Description: Tariff Withdrawal per 35.15: WPSC and UPPCo Notice of Cancellation of Joint Ancillary Services Tariff to be effective 8/28/2014.

Filed Date: 8/28/14.

Accession Number: 20140828-5100.

Comments Due: 5 p.m. ET 9/18/14.

Docket Numbers: ER14-2731-000.

Applicants: Duke Energy Progress, Inc.

Description: Tariff Withdrawal per 35.15: Termination of Fibrocoast LGIA SA 316 to be effective 8/28/2014.

Filed Date: 8/28/14.

Accession Number: 20140828-5138.

Comments Due: 5 p.m. ET 9/18/14.

Docket Numbers: ER14-2732-000.

Applicants: PJM Interconnection, L.L.C.

Description: § 205(d) rate filing per 35.13(a)(2)(iii): Original Service Agreement No. 3928; Queue No. Z1-106 to be effective 7/31/2014.

Filed Date: 8/28/14.

Accession Number: 20140828-5151.

Comments Due: 5 p.m. ET 9/18/14.

Docket Numbers: ER14-2733-000.

Applicants: Upper Peninsula Power Company.

Description: Initial rate filing per 35.12 AST filing to be effective 8/28/2014.

Filed Date: 8/28/14.

Accession Number: 20140828-5157.

Comments Due: 5 p.m. ET 9/18/14.

Docket Numbers: ER14-2734-000.

Applicants: PJM Interconnection, L.L.C.

Description: § 205(d) rate filing per 35.13(a)(2)(iii): Original Service Agreement No. 3929; Queue No. Z1-107 to be effective 7/31/2014.

Filed Date: 8/28/14.

Accession Number: 20140828-5173.

Comments Due: 5 p.m. ET 9/18/14.

Docket Numbers: ER14-2735-000.

Applicants: Upper Peninsula Power Company.

Description: Tariff Withdrawal per 35.15: Cancelling Joint Tariff to be effective 8/28/2014.

Filed Date: 8/28/14.

Accession Number: 20140828-5174.

Comments Due: 5 p.m. ET 9/18/14.

Docket Numbers: ER14-2736-000.

Applicants: PJM Interconnection, L.L.C.

Description: § 205(d) rate filing per 35.13(a)(2)(iii): Original Service Agreement No. 3930; Queue No. Z1-108 to be effective 7/31/2014.

Filed Date: 8/28/14.

Accession Number: 20140828-5188.

Comments Due: 5 p.m. ET 9/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 28, 2014.
Nathaniel J. Davis, Sr.,
Deputy Secretary.

[FR Doc. 2014-21302 Filed 9-5-14; 8:45 am]

BILLING CODE 6717-01-P